NUCLEAR WASTE TECHNICAL REVIEW BOARD

Board Workshop: June 6-7, 2011—Arlington, Virginia; the U.S. Nuclear Waste Technical Review Board Will Hold a Workshop on Methods for Evaluating Nuclear Waste Streams

Pursuant to its authority under section 5051 of Public Law 100-203, Nuclear Waste Policy Amendments Act of 1987, the U.S. Nuclear Waste Technical Review Board will hold a workshop on Monday, June 6, and Tuesday, June 7, 2011, in Arlington, Virginia, on methods for evaluating waste streams associated with light-water reactor (LWR) fuel-cycle options. The Board has developed a personal-computer-based systems analysis tool, the Nuclear Waste Assessment System for Technical Evaluation (NUWASTE), to analyze the implications of various nuclear fuel-cycle scenarios being considered by the U.S. Department of Energy (DOE) for managing spent nuclear fuel. The Board will discuss NUWASTE, its methodology, and some preliminary results from the analysis at the meeting. Other organizations with similar projects under way have been invited to discuss their analytical methods and results at the workshop. The overall objectives of the workshop are to benchmark each of the systems analysis tools against each other and to understand the basis for any differences among the results.

The workshop will be held at the Hilton Arlington Hotel; 950 N. Stafford Street; Arlington, VA 22203; telephone: 703-528-6000. A block of rooms has been reserved at the hotel. To make a reservation, attendees may call 1-800-Hiltons. The group code for the meeting is “NUC.” Or, go to the hotel Web site, http://www.arlingtonva.hilton.com, and enter the arrival and departure dates and the group code. All reservations must be made by May 13 to receive the group rate.

The workshop will begin on Monday, June 6, at 9 a.m. and will conclude by 4 p.m. on Tuesday, June 7. A detailed agenda will be available on the Board's Web site at http://www.nwtrb.gov approximately one week before the workshop. The agenda also may be obtained by telephone request at that time.

The workshop will be open to the public, and opportunities for public comment will be provided. Those wanting to speak are encouraged to sign the “Public Comment Register” at the check-in table. It may be necessary to set a time limit on individual remarks, but written comments of any length may be submitted for the record.

Transcripts of the workshop discussions will be available on the Board's Web site, by e-mail, on computer disk, and on library-loan in paper form from Davonya Barnes of the Board's staff after June 27, 2011.

The Board was established as an independent federal agency to provide ongoing, objective expert advice to Congress and the Secretary of Energy on technical issues related to the management and disposition of spent nuclear fuel and high-level radioactive waste and to review the technical validity of DOE activities related to implementing the Nuclear Waste Policy Act. Board members are experts in their fields and are appointed to the Board by the President from a list of candidates submitted by the National Academy of Sciences. The Board is required to report to Congress and the Secretary no fewer than two times each year. Board reports, correspondence, congressional testimony, and meeting transcripts and materials are posted on the Board's Web site.

For information on the meeting agenda, contact Karyn Severson. For information on lodging or logistics, contact Linda Coultry. They can be reached at 2300 Clarendon Boulevard, Suite 1300; Arlington, VA 22201-3367; (tel) 703-235-4473; (fax) 703-235-4495.

Dated: April 25, 2011.
Nigel Mote,
Executive Director, U.S. Nuclear Waste Technical Review Board.

[FR Doc. 2011-10329 Filed 4-28-11; 8:45 am]

BILLING CODE 6820-AM-M